DEPARTMENT OF ENERGY

10 CFR Part 430

[Docket No. EERE-2014-BT-STD-0005]

RIN 1904-AD15

Energy Conservation Program: Energy Conservation Standards for Residential Conventional Ovens

AGENCY: Office of Energy Efficiency and Renewable Energy, Department of Energy.

ACTION: Extension of public comment period.

SUMMARY: On June 10, 2015, the U.S. Department of Energy (DOE) published a notice of proposed rulemaking (NOPR) and public meeting regarding energy conservation standards for residential conventional ovens in the Federal Register. 80 FR 33030 This document announces an extension of the public comment period for submitting comments on the NOPR. The comment period is extended to September 9, 2015.

DATES: DOE will accept comments, data, and information regarding this rulemaking received no later than September 9, 2015.

ADDRESSES: Interested persons may submit comments, identified by docket number EERE-2014-BT-STD-0005, by any of the following methods:

• Federal eRulemaking Portal: www.regulations.gov. Follow the instructions for submitting comments.

• Email: ConventionalCookingProducts2014STD0005@ee.doe.gov. Include the docket number EERE-2014-BT-STD-0005 in the subject line of the message.

• Mail: Ms. Brenda Edwards, U.S. Department of Energy, Building Technologies Program, Mailstop EE-5B, Notice of Proposed Rulemaking for Energy Conservation Standards for Residential Conventional Ovens, Docket No. EERE-2014-BT-STD-0014, 1000 Independence Avenue SW., Washington, DC 20585-0121. If possible, please submit all items on a CD. It is not necessary to include printed copies.

• Hand Delivery/Courier: Ms. Brenda Edwards, U.S. Department of Energy, Building Technologies Program, 950 L'Enfant Plaza SW., Suite 600, Washington, DC 20024. Telephone (202) 586-2945. If possible, please submit all items on a CD, in which case it is not necessary to include printed copies.

Instructions: All submissions received must include the agency name and docket number for this rulemaking. No telefacsimiles (faxes) will be accepted.

Docket: The docket is available for review at www.regulations.gov, including Federal Register notices, comments, and other supporting documents/materials. All documents in the docket are listed in the www.regulations.gov index. However, not all documents listed in the index may be publicly available, such as information that is exempt from public disclosure.

A link to the docket Web page can be found at: http://www.regulations.gov/#!documentDetail;D=EERE-2014-BT-STD-0005-0014. This Web page contains a link to the docket for this notice on the regulation.gov site. The www.regulations.gov Web page contains instructions on how to access all documents in the docket, including public comments.

FOR FURTHER INFORMATION CONTACT:

Mr. John Cymbalsky, U.S. Department of Energy, Office of Energy Efficiency and Renewable Energy, Building Technologies Program, EE-2J, 1000 Independence Avenue SW., Washington, DC 20585-0121. Telephone: (202) 287-1692. Email: kitchen_ranges_and_ovens@ee.doe.gov.

Ms. Celia Sher, U.S. Department of Energy, Office of the General Counsel, GC-33, 1000 Independence Avenue SW., Washington, DC 20585-0121. Telephone: (202) 287-6122. Email: Celia.Sher@hq.doe.gov.

SUPPLEMENTARY INFORMATION: On June 10, 2015, DOE published a notice of proposed rulemaking (NOPR) and public meeting in the Federal Register that proposed new and amended energy conservation standards for residential conventional ovens. 80 FR 33030. The NOPR requested comment from the public on the proposed standards, associated analyses, and results, and provided for the written submission of comments by August 10, 2015. The Association of Home Appliance Manufacturers (AHAM) requested that DOE extend the comment period by 60 days so that manufacturers can obtain sufficient data to fully analyze DOE's proposed rule according to the conventional oven test procedure final rule that was published on July 2, 2015. 80 FR 37954. Because there are currently no performance based energy conservation standards, AHAM noted that manufacturers do not conduct regular energy tests on conventional ovens. AHAM further stated that by allowing additional time for manufacturers (and other stakeholders who wish to conduct testing) to test their products, manufacturers will be able to provide key data to support DOE's analysis.

Based on AHAM's request, DOE determines that a 30 day extension of the public comment period is appropriate to allow interested parties additional time to submit comments. DOE notes that it issued and made available a pre-publication version of the conventional oven test procedure final rule on June 9, 2015. Based on DOE's testing experience, extending the comment period by 30 days for a 90 day total period should be sufficient time for manufacturers to conduct testing using the new oven test procedure and aggregate results. DOE will consider any comments received by midnight of September 9, 2015 to be timely submitted.

Issued in Washington, DC, on July 23, 2015.
Kathleen B. Hogan,
Deputy Assistant Secretary for Energy Efficiency, Energy Efficiency and Renewable Energy.

[FR Doc. 2015-18687 Filed 7-29-15; 8:45 am]

BILLING CODE 6450-01-P